FEDERAL COMMUNICATIONS COMMISSION

[DA 05-2731]

Announcement of Next Meeting Date and Agenda of Consumer Advisory Committee

AGENCY: Federal Communications Commission.

ACTION: Notice; announcement of meeting.

SUMMARY: This document announces the next meeting date and agenda of the Consumer Advisory Committee. The purpose of the Committee is to make recommendations to the Federal Communications Commission (“Commission”) regarding consumer issues within the jurisdiction of the Commission and to facilitate the participation of all consumers in proceedings before the Commission.

DATES: The next meeting of the Committee will take place on Friday, November 18, 2005, from 9 a.m. to 4 p.m.

ADDRESSES: Federal Communications Commission, 445 12th Street, SW., Washington, DC 20554.

FOR FURTHER INFORMATION CONTACT: Scott Marshall, (202) 418-2809 (voice), (202) 418-0179 (TTY) or e-mail: scott.marshall@fcc.gov.

SUPPLEMENTARY INFORMATION: This is a summary of the Commission's Public Notice DA 0-2731 released October 18, 2005. The Commission announced the next meeting date and meeting agenda of its Consumer Advisory Committee.

Purpose and Functions

The purpose of the Committee is to make recommendations to the Commission regarding consumer issues within the jurisdiction of the Commission and to facilitate the participation of all consumers in proceedings before the Commission.

Meeting Agenda

At its November 18, 2004 meeting, the Committee will (1) receive briefings by FCC staff regarding Agency activities; (2) receive a report and recommendations from its TRS Working Group regarding access to VRS networks; and (3) receive a report and recommendations from its Media working group regarding public interest obligations related to digital television. The full Committee may take action on any or all of these agenda items.

A copy of the October 18, 2005, Public Notice is available in alternate formats (Braille, cassette tape, large print or diskette) upon request. It is also posted on the Commission's Web site at www.fcc.gov/cgb/cac. Meeting minutes will be available for public inspection at the FCC headquarters building.

The Committee meeting will be open to the public and interested persons may attend the meeting and communicate their views. Members of the public will have an opportunity to address the Committee on issues of interest to them and the Committee. Written comments for the Committee may also be sent to the Committee's Designated Federal Officer, Scott Marshall.

The meeting site is fully accessible to people using wheelchairs or other mobility aids. Meeting agendas and handouts will be provided in accessible format; sign language interpreters, open captioning, and assistive listening devices will be provided on site. The meeting will be webcast with open captioning at http://www.fcc.gov/cgb/cac. Request other reasonable accommodations for people with disabilities as early as possible; please allow at least 14 days advance notice. Include a description of the accommodation you will need including as much detail as you can. Also include a way we can contact you if we need more information. Send an e-mail to: fcc504@fcc.gov or call the Consumer & Governmental Affairs Bureau at (202) 418-0530 (voice), (202) 418-0432 (TTY).

Federal Communications Commission.
Monica Desai,
Chief, Consumer and Governmental Affairs Bureau.

[FR Doc. 05-21403 Filed 10-25-05; 8:45 am]

BILLING CODE 6712-01-P